NUCLEAR REGULATORY COMMISSION

[Docket Nos. 50-282 and 50-306]

Nuclear Management Company, LLC; Notice of Issuance of Amendment to Facility Operating License

The U.S. Nuclear Regulatory Commission (Commission) has issued Amendment No. 158 to Facility Operating License No. DPR-42 and Amendment No. 149 to Facility Operating License DPR-60, issued to Nuclear Management Company, LLC (the licensee), which revised the Operating Licenses and Technical Specifications (TSs) for operation of the Prairie Island Nuclear Generating Plant, Units 1 and 2, respectively, located in Goodhue County, Minnesota. The amendments are effective as of the date of issuance.

The amendments replace the current TSs (CTS) in their entirety with a set of improved TSs (ITS) based on NUREG-1431, “Standard Technical Specifications for Westinghouse Plants,” Revision 1, dated April 1995, and on guidance provided in the Commission's “Final Policy Statement on Technical Specifications Improvements for Nuclear Power Reactors,” published on July 22, 1993 (58 FR 39132). In addition, the amendments add new conditions to the Operating Licenses regarding (1) the schedule for the first performance of new and revised surveillance requirements (four conditions), (2) the relocation of CTS requirements into licensee-controlled documents as part of the implementation of the ITS, and (3) the schedule for completion of actions associated with verifying the maximum test face velocity for the ventilation systems included in ITS Section 5.5.9.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on June 25, 2002 (67 FR 42808). No request for a hearing or petition for leave to intervene was filed following this notice.

The Commission has prepared an Environmental Assessment related to the action and has determined not to prepare an environmental impact statement. Based upon the environmental assessment, the Commission has concluded that the issuance of the amendment will not have a significant effect on the quality of the human environment (67 FR 47868).

For further details with respect to the action see (1) the application for amendment dated December 11, 2000, as supplemented by letters dated March 6, June 5, July 3, August 13, August 29, October 15, November 12, and December 12, 2001, and January 25, January 31, February 14, February 15, February 16, March 6, April 11, May 10, May 30, June 7, June 25, and June 28, 2002 (2) Amendment No. 158 to License No. DPR-42 and Amendment No. 149 to License No. DPR-60, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. Persons who do not have access to ADAMS or who encounter problems in accessing the documents located in ADAMS, should contact the NRC Public Document Room Reference staff by telephone at 1-800-397-4209, 301-415-4737 or by email to pdr@nrc.gov.

Dated at Rockville, Maryland, this 26th day of July 2002.
For the Nuclear Regulatory Commission.
Tae Kim,
Senior Project Manager, Section 1, Project Directorate III, Division of Licensing Project Management, Office of Nuclear Reactor Regulation.

[FR Doc. 02-19776 Filed 8-5-02; 8:45 am]

BILLING CODE 7590-01-P